DEPARTMENT OF STATE

22 CFR Parts 41 and 42

[Public Notice: 12080]

RIN 1400-AF53

Visas: Nonimmigrant Visas; Immigrant Visas

AGENCY: Department of State.

ACTION: Final rule.

SUMMARY: The Department of State (Department) amends its regulations governing nonimmigrant and immigrant visas to update classification symbols and descriptions for certain immigrant and nonimmigrant visas.

DATES: This final rule is effective on September 12, 2023.

FOR FURTHER INFORMATION CONTACT: Andrea Lage, Acting Senior Regulatory Coordinator, Visa Services, Bureau of Consular Affairs, 600 19th St. NW, Washington, DC 20522, (202) 485-7586, VisaRegs@state.gov.

SUPPLEMENTARY INFORMATION:

I. What changes to 22 CFR 41.12, 41.84, and 42.11 does this Final Rule make?

The Department is amending 22 CFR 41.12 to include classification symbols and related descriptions for the CW-1, CW-2, E-2C, and T-6 visa classifications. The Department is also amending 22 CFR 42.11 to include classification symbols and related descriptions for surviving spouses and children, as described in Section 403(a) of the Emergency Security Supplemental Appropriations Act, 2021 (“ESSAA”), Public Law 117-31, 135 Stat. 309, as well as classification symbols and related descriptions for EB-5 immigrant visas initiated by the EB-5 Reform and Integrity Act of 2022, Division BB of the Consolidated Appropriations Act, 2022, Public Law 117-103 (“EB-5 Reform and Integrity Act”). The changes in the classification descriptions under this Final Rule will have no impact on who may qualify for such a visa; as such, this Final Rule will not practically impact any current applicant for any visa. This rule also makes technical corrections to the classification symbols for visa classifications to ensure the accurate inclusion of all active immigrant visa classifications.

II Why is the Department promulgating this Final Rule?

A. T Visas, Victims of Trafficking in Persons

The Trafficking Victims Protection Reauthorization Act of 2008, Public Law 106-386 amended Section 101(a)(15)(T)(ii)(III) of the INA to include parents and unmarried siblings under the age of 18 whose eligibility for T derivative classification is not tied to the age of the principal applicant, but rather to their present danger of retaliation as a result of the principal's escape from trafficking or cooperation with law enforcement, as determined by U.S. Citizenship and Immigration Services. These derivatives receive T-4 and T-5 visa classifications. Additionally, Section 1221 of the Violence Against Women Reauthorization Act of 2013, Public Law 113-4, amended Section 101(a)(15)(T)(ii)(III) of the INA by adding the T-6 derivative classification, which is available to an eligible adult or minor child of a T-1 principal applicant's derivative family member, if such derivative's adult or minor child themself faces a present danger of retaliation as a result of the principal's escape from trafficking or cooperation with law enforcement.

Classification symbols in existing regulations at 22 CFR 41.12 do not reflect the 2013 expansion of eligibility for the adult or minor child of a derivative beneficiary, and to address this, this rule amends 22 CFR 41.12 to add the T-6 classification symbol and description. This rule also adds details to existing descriptions of the T-4 and T-5 visa classification to better reflect the statutory criteria. The rule further amends 22 CFR 41.84 to reflect the current language more closely in INA section 101(a)(15)(T)(ii) which describes the family members who may qualify for T nonimmigrant status as certain accompanying or following-to-join derivative family members of a principal T-1 nonimmigrant. These classification codes are consistent with those used by the Department of Homeland Security.

B. CW Visas—Commonwealth of Northern Mariana Islands (CNMI) Transitional Workers

Section 6 of the Covenant to Establish a Commonwealth of the Northern Mariana Islands in Political Union with the United States of America, Public Law 94-241, as amended by Section 702(a) of the Consolidated Natural Resources Act of 2008, Public Law 110-229, provides for nonimmigrant visas for certain CNMI transitional workers, investors, and their spouses and children. The Department classifies CNMI transitional workers as CW-1, spouses, or children of a CW-1 as a CW-2, and CNMI investors and their spouses or children as E-2C. This rule adds these nonimmigrant visa classifications to 22 CFR 41.12. These classification codes are consistent with those used by the Department of Homeland Security.

C. SS1 Classification—Surviving Spouses and Children of United States Government Employees Abroad

Section 403(a) of the ESSAA amended INA Section 101(a)(27)(D), 8 U.S.C. 1101(a)(27)(D), to change the definition of a special immigrant to include “the surviving spouse or child of an employee of the United States Government abroad: Provided, [t]hat the employee performed faithful service for a total of not less than 15 years or was killed in the line of duty.” The Department classifies each surviving spouse and child of an employee of the United States Government abroad as an SS1. While this Final Rule does not address the parameters under which a noncitizen may qualify for issuance of an SS1 immigrant visa, this rule adds these special immigrant visa classifications to 22 CFR 42.11.

D. EB-5 Program Changes

The EB-5 Reform and Integrity Act made substantial changes to Section 203(b)(5) of the INA, 8 U.S.C. 1153(b)(5). The EB-5 Reform and Integrity Act sets forth an allocation of visas to qualified immigrant investors who invest in new commercial enterprises and satisfy applicable job creation requirements. Certain percentages of these visas are reserved for investors in rural areas, investors in areas designated by the Department of Homeland Security (DHS) as high unemployment areas, and investors in infrastructure projects.

The EB-5 Reform and Integrity Act repealed the former Regional Center Program under section 610 of Public Law 102-395 and authorized a new Regional Center Program. As a result of the new legislation, the Visa Office is adding new EB-5 classification symbols. An investor in a non-regional center for an unreserved visa is classified as NU-1 and the spouse and children of an NU-1 applicant are classified as an NU-2 and NU-3, respectively. An investor in a regional center for an unreserved visa is classified as an RU-1 applicant, and the spouse and children of an RU-1 applicant are classified as an RU-2 and RU-3, respectively. An applicant for a reserved visa who is an investor in a non-regional center in a rural area is classified as an NR-1, and the spouse and children of an NR-1 applicant are classified as an NR-2 and NR-3, respectively. An applicant for a reserved visa who is an investor in a non-regional center in an area with high unemployment is classified as an NH-1, and the spouse and children of an NH-1 applicant are classified as an NH-2 and NH-3, respectively. An applicant for a reserved visa who is an investor in a regional center in a rural area is classified as an RR-1, and the spouse and children of an RR-1 applicant are classified as an RR-2 and RR-3, respectively. An applicant for a reserved visa who is an investor in a regional center in an area of high unemployment is classified as an RH-1, and the spouse and children of an RH-1 applicant are classified as an RH-2 and RH-3, respectively. An applicant for a reserved visa who is an investor in an infrastructure project is classified as an RI-1, and the spouse and children of an RI-1 applicant are classified as an RI-2 and RI-3, respectively. The previously used visa classifications for employment fifth preference immigrant visas (C51, C52, C53, T51, T52, T53, R51, R52, R53, I51, I52, and I53) will continue to be used for EB-5 immigrant visa applicants who had petitions pending with DHS at the time of the passage of the EB-5 Reform and Integrity Act. These classification symbols and descriptions are currently in use, and merely reflect the availability of these classifications for qualified applicants. The publication of these symbols will not impact processing of visas in other categories for any current or future applicant. These classification symbols are consistent with those used by the Department of Homeland Security.

E. Technical Changes

Additionally, this rule makes a technical change to remove a reference to H2R, which is a classification symbol no longer in use. The H2R nonimmigrant visa classification was introduced by Section 402 of the Emergency Supplemental Appropriations Act for Defense, the Global War on Terror, and Tsunami Relief, 2005, Public Law 109-13, as amended by Section 565 of the Consolidated Appropriations Act, 2016, Public Law 114-113. The H2R nonimmigrant visa classification was only authorized through the end of the 2016 fiscal year and has not been reauthorized.

F. Terminology

President Biden's Executive Order 14012, Executive Order on Restoring Faith in Our Legal Immigration Systems and Strengthening Integration and Inclusion Efforts for New Americans (Feb. 2, 2021), affirms that the “Federal Government should develop welcoming strategies that promote integration [and] inclusion.” That Executive Order and Executive Order 14010, Creating a Comprehensive Regional Framework to Address the Causes of Migration, to Manage Migration Throughout North and Central America, and to Provide Safe and Orderly Processing of Asylum Seekers at the United States Border (Feb. 2, 2021), do not use the terms “alien” or “illegal alien” to describe migrants.

Some opinions of the Supreme Court now use the term “noncitizen” in place of “alien.” See, e.g., United States v. Palomar-Santiago, 141 S. Ct. 1615, 1619 (2021); Barton v. Barr, 140 S. Ct. 1442, 1446 n.2 (2020) (“This opinion uses the term `noncitizen' as equivalent to the statutory term `alien.' ”) (citing 8 U.S.C. 1101(a)(3)).¹ Other agencies have begun to use noncitizen in place of alien in regulations and guidance and the Department has been using noncitizen and applicant in place of alien in guidance to consular officers since mid-2021. The Department intends to gradually replace or remove references to alien as it makes other amendments to its regulations in 22 CFR parts 41, and 42, and has done so in several descriptions of its nonimmigrant and immigrant visa classifications in this rule.

Regulatory Findings

A. Administrative Procedure Act

The publication of this rule as a final rule is based upon the “good cause” exception found at 5 U.S.C. 553(b)(3)(B) and (d)(3). A rule benefits from the good cause exception when the “agency for good cause finds . . . that notice and public procedure thereon are impractical, unnecessary, or contrary to the public interest.” ¹ The Department finds that notice and comment for this rule are unnecessary as this rule proposes no new policy or procedure. This rule merely updates the list of classification symbols found in 22 CFR 41.12 and 42.11 to more closely reflect the classifications authorized under the Immigration and Nationality Act and other federal statutes; and provides clarifying descriptions in the associated classification-specific subsections.

¹ 5 U.S.C. 553(b)(3)(B).

For this reason, this rule is excepted from the notice and comment requirements of 5 U.S.C. 553(a)(1).

B. Regulatory Flexibility Act/Executive Order 13272: Small Business

As this final rule is excepted from notice and comment rulemaking under 5 U.S.C. 553(b) and 553(a), it is exempt from the regulatory flexibility analysis requirements set forth by the Regulatory Flexibility Act (5 U.S.C. 601 et seq.).

C. Unfunded Mandates Reform Act of 1995

The Unfunded Mandates Reform Act of 1995, 2 U.S.C. 1532, generally requires agencies to prepare a statement before proposing any rule that may result in an annual expenditure of $100 million or more by State, local, or Tribal governments, or by the private sector. This rule does not require the Department of State to prepare a statement because it will not result in any such expenditure, nor will it significantly or uniquely affect small governments. This rule involves visas, which involve foreign individuals, and does not directly or substantially affect state, local, or tribal governments, or businesses.

D. Congressional Review Act of 1996

This rule is not a major rule as defined in 5 U.S.C. 804. This rule will not result in an annual effect on the economy of $100 million or more; a major increase in costs or prices; or adverse effects on competition, employment, investment, productivity, innovation, or the ability of United States-based companies to compete with foreign-based companies in domestic and import markets.

E. Executive Orders 12866 (Regulatory Planning and Review) and 13563 (Improving Regulation and Regulatory Review)

Executive Orders 12866 and 13563 direct agencies to assess costs and benefits of available regulatory alternatives and, if regulation is necessary, to select regulatory approaches that maximize net benefits (including potential economic, environmental, public health and safety effects, distributed impacts, and equity). These Executive Orders stress the importance of quantifying both costs and benefits, of reducing costs, of harmonizing rules, and of promoting flexibility. The Department of State has examined this rule considering Executive Order 13563 and has determined that the rulemaking is consistent with the guidance therein. The Department of State has reviewed this rulemaking to ensure its consistency with the regulatory philosophy and principles set forth in Executive Order 12866. The Office of Information and Regulatory Affairs has designated this rule “significant” in accordance with E.O. 12866. There are no anticipated direct costs to the public associated with this rule.

F. Executive Orders 12372 and 13132: Federalism

This regulation will not have substantial direct effect on the States, on the relationship between the national government and the States, or the distribution of power and responsibilities among the various levels of government. Nor will the rule have federalism implications warranting the application of Executive Orders 12372 and 13132.

G. Executive Order 12988: Civil Justice Reform

The Department of State has reviewed the rule considering sections 3(a) and 3(b)(2) of Executive Order 12988 to eliminate ambiguity, minimize litigation, establish clear legal standards, and reduce burden.

H. Executive Order 13175—Consultation and Coordination With Indian Tribal Governments

The Department of State has determined that this rulemaking will not have Tribal implications, will not impose substantial direct compliance costs on Indian Tribal governments, and will not pre-empt Tribal law. Accordingly, the requirements of Section 5 of Executive Order 13175 do not apply to this rulemaking.

I. Paperwork Reduction Act

This rule does not impose any new reporting or record-keeping requirements subject to the Paperwork Reduction Act, 44 U.S.C. Chapter 35.

List of Subjects

22 CFR Part 41

Aliens, Foreign officials, Passports and visas, Students.

22 CFR Part 42

Administrative practice and procedure, Aliens, Fees, Foreign officials, Immigration passports and visas.

Accordingly, for the reasons stated in the preamble, and under the authority 8 U.S.C. 1104 and 22 U.S.C. 2651(a), 22 CFR parts 41 and 42 are amended as follows:

PART 41—VISAS: DOCUMENTATION OF NONIMMIGRANTS UNDER THE IMMIGRATION AND NATIONALITY ACT, AS AMENDED

1. The authority citation for part 41 continues to read as follows:

Authority: 8 U.S.C. 1101; 1102; 1104; 1182; 1184; 1185 note (section 7209 of Pub. L. 108-458, as amended by section 546 of Pub. L. 109-295); 1323; 1361; 2651a.

2. Revise § 41.12 to read as follows:

§ 41.12 Classification symbols.

A nonimmigrant visa issued to an applicant within one of the classes described in this section shall bear an appropriate visa symbol to show its classification. The symbol shall be inserted in the space provided on the visa. The following visa symbols shall be used:

Table 1 to § 41.12
Symbol | Class | Section of law
A1 | Ambassador, Public Minister, Career Diplomat or Consular Officer, or Immediate Family | INA 101(a)(15)(A)(i).
A2 | Other Foreign Government Official or Employee, or Immediate Family | INA 101(a)(15)(A)(ii).
A3 | Attendant, Servant, or Personal Employee of A1 or A2, or Immediate Family | INA 101(a)(15)(A)(iii).
B1 | Temporary Visitor for Business | INA 101(a)(15)(B).
B2 | Temporary Visitor for Pleasure | INA 101(a)(15)(B).
B1/B2 | Temporary Visitor for Business & Pleasure | INA 101(a)(15)(B).
C1 | Noncitizen in Transit | INA 101(a)(15)(C).
C1/D | Combined Transit and Crewmember Visa | INA 101(a)(15)(C) and (D).
C2 | Noncitizen in Transit to United Nations Headquarters District Under Sec. 11.(3), (4), or (5) of the Headquarters Agreement | INA 101(a)(15)(C).
C3 | Foreign Government Official, Immediate Family, Attendant, Servant, or Personal Employee, in Transit | INA 212(d)(8).
CW1 | Commonwealth of the Northern Mariana Islands—Only Transitional Worker | Section 6(d) of Public Law 94-241, as added by Section 702(a) of Public Law 110-229; 48 U.S.C. 1806(d).
CW2 | Spouse or Child of CW1 | Section 6(d) of Public Law 94-241, as added by Section 702(a) of Public Law 110-229; 48 U.S.C. 1806(d).
D | Crewmember (Sea or Air) | INA 101(a)(15)(D).
E1 | Treaty Trader, Spouse or Child | INA 101(a)(15)(E)(i).
E2 | Treaty Investor, Spouse or Child | INA 101(a)(15)(E)(ii).
E2C | Commonwealth of the Northern Mariana Islands Investor, Spouse or Child | Section 6(c) of Public Law 94-241, as added by Section 702(a) of Public Law 110-229; 48 U.S.C. 1806(d).
E3 | Australian National Coming to the United States Solely to Perform Services in a Specialty Occupation | INA 101(a)(15)(E)(iii).
E3D | Spouse or Child of E3 | INA 101(a)(15)(E)(iii).
E3R | Returning E3 | INA 101(a)(15)(E)(iii).
F1 | Student in an Academic or Language Training Program | INA 101(a)(15)(F)(i).
F2 | Spouse or Child of F1 | INA 101(a)(15)(F)(ii).
F3 | Canadian or Mexican National Commuter Student in an Academic or Language Training Program | INA 101(a)(15)(F)(iii).
G1 | Principal Resident Representative of Recognized Foreign Government to International Organization, Staff, or Immediate Family | INA 101(a)(15)(G)(i).
G2 | Other Representative of Recognized Foreign Member Government to International Organization, or Immediate Family | INA 101(a)(15)(G)(ii).
G3 | Representative of Non-recognized or Nonmember Foreign Government to International Organization, or Immediate Family | INA 101(a)(15)(G)(iii).
G4 | International Organization Officer or Employee, or Immediate Family | INA 101(a)(15)(G)(iv).
G5 | Attendant, Servant, or Personal Employee of G1 through G4, or Immediate Family | INA 101(a)(15)(G)(v).
H1B | Temporary Worker in a Specialty Occupation | INA 101(a)(15)(H)(i)(b).
H1B1 | Chilean or Singaporean Temporary Worker in a Specialty Occupation | INA 101(a)(15)(H)(i)(b1).
H1C | Registered Nurse in Health Professional Shortage Area | INA 101(a)(15)(H)(i)(c).
H2A | Temporary Worker Performing Agricultural Services | INA 101(a)(15)(H)(ii)(a).
H2B | Temporary Non-Agricultural Worker | INA 101(a)(15)(H)(ii)(b).
H3 | Trainee or Special Education Exchange Visitor | INA 101(a)(15)(H)(iii).
H4 | Spouse or Child of H1B, H1B1, H1C, H2A, H2B, or H3 | INA 101(a)(15)(H)(iv).
I | Representative of Foreign Information Media, Spouse and Child | INA 101(a)(15)(I).
J1 | Exchange Visitor | INA 101(a)(15)(J).
J2 | Spouse or Child of J1 | INA 101(a)(15)(J).
K1 | Fiancé(e) of United States Citizen | INA 101(a)(15)(K)(i).
K2 | Child of Fiancé(e) of U.S. Citizen | INA 101(a)(15)(K)(iii).
K3 | Spouse of U.S. citizen awaiting availability of immigrant visa | INA 101(a)(15)(K)(ii).
K4 | Child of K3 | INA 101(a)(15)(K)(iii).
L1 | Intracompany Transferee (Executive, Managerial, and Specialized Knowledge Personnel Continuing Employment) | INA 101(a)(15)(L).
L2 | Spouse or Child of L1 | INA 101(a)(15)(L).
M1 | Vocational Student or Other Nonacademic Student | INA 101(a)(15)(M)(i).
M2 | Spouse or Child of M1 | INA 101(a)(15)(M)(ii).
M3 | Canadian or Mexican National Commuter Student (Vocational Student or Other Nonacademic Student) | INA 101(a)(15)(M)(iii).
N8 | Parent of an Individual Classified by DHS as SK3 or SN3 | INA 101(a)(15)(N)(i).
N9 | Child of N8 or of Individual Classified by DHS as SK1, SK2, SK4, SN1, SN2 or SN4 | INA 101(a)(15)(N)(ii).
NATO1 | Principal Permanent Representative of Member State to NATO (including any of its Subsidiary Bodies) Resident in the U.S. and Resident Members of Official Staff; Secretary General, Assistant Secretaries General, and Executive Secretary of NATO; Other Permanent NATO Officials of Similar Rank, or Immediate Family | Art. 12, 5 UST 1094; Art. 20, 5 UST 1098.
NATO2 | Other Representative of Member State to NATO (including any of its Subsidiary Bodies) including Representatives, Advisers, and Technical Experts of Delegations, or Immediate Family; Dependents of Member of a Force Entering in Accordance with the Provisions of the NATO Status-of-Forces Agreement or in Accordance with the provisions of the “Protocol on the Status of International Military Headquarters”; Members of Such a Force if Issued Visas | Art. 13, 5 UST 1094; Art. 1, 4 UST 1794; Art. 3, 4 UST 1796.
NATO3 | Official Clerical Staff Accompanying Representative of Member State to NATO (including any of its Subsidiary Bodies), or Immediate Family | Art. 14, 5 UST 1096.
NATO4 | Official of NATO (Other Than Those Classifiable as NATO1), or Immediate Family | Art. 18, 5 UST 1098.
NATO5 | Experts, Other Than NATO Officials Classifiable Under NATO4, Employed in Missions on Behalf of NATO, and their Dependents | Art. 21, 5 UST 1100.
NATO6 | Member of a Civilian Component Accompanying a Force Entering in Accordance with the Provisions of the NATO Status-of-Forces Agreement; Member of a Civilian Component Attached to or Employed by an Allied Headquarters Under the “Protocol on the Status of International Military Headquarters” Set Up Pursuant to the North Atlantic Treaty; and their Dependents | Art. 1, 4 UST 1794; Art. 3, 5 UST 877.
NATO7 | Attendant, Servant, or Personal Employee of NATO1, NATO2, NATO 3, NATO4, NATO5, and NATO6 Classes, or Immediate Family | Arts. 12-20, 5 UST 1094-1098.
O1 | Worker with Extraordinary Ability or Achievement in Sciences, Arts, Education, Business, or Athletics | INA 101(a)(15)(O)(i).
O2 | Person Accompanying and Assisting in the Artistic or Athletic Performance by O1 | INA 101(a)(15)(O)(ii).
O3 | Spouse or Child of O1 or O2 | INA 101(a)(15)(O)(iii).
P1 | Internationally Recognized Athlete or Member of Internationally Recognized Entertainment Group | INA 101(a)(15)(P)(i).
P2 | Artist or Entertainer in a Reciprocal Exchange Program | INA 101(a)(15)(P)(ii).
P3 | Artist or Entertainer in a Culturally Unique Program | INA 101(a)(15)(P)(iii).
P4 | Spouse or Child of P1, P2, or P3 | INA 101(a)(15)(P)(iv).
Q1 | Participant in an International Cultural Exchange Program | INA 101(a)(15)(Q)(i).
R1 | Member of a Religious Denomination Performing Religious Work | INA 101(a)(15)(R).
R2 | Spouse or Child of R1 | INA 101(a)(15)(R).
S5 | Person Supplying Critical Information Relating to a Criminal Organization or Enterprise | INA 101(a)(15)(S)(i).
S6 | Person Supplying Critical Information Relating to Terrorism | INA 101(a)(15)(S)(ii).
S7 | Qualified Family Member of S5 or S6 | INA 101(a)(15)(S).
T1 | Victim of a Severe Form of Trafficking in Persons | INA 101(a)(15)(T)(i).
T2 | Spouse of T1 | INA 101(a)(15)(T)(ii).
T3 | Child of T1 | INA 101(a)(15)(T)(ii).
T4 | Parent of a T1 under 21 years of age; or Parent of a T1 (Any Age) Who Faces Present Danger of Retaliation | INA 101(a)(15)(T)(ii).
T5 | Unmarried Sibling under 18 years of age of a T1 Under 21 Years of Age; or Unmarried Sibling Under 18 Years of Age of a T1 (Any Age), Who Faces Present Danger of Retaliation | INA 101(a)(15)(T)(ii).
T6 | Adult or Minor Child of a Derivative Beneficiary of a T1 (Any Age) Who Faces Present Danger of Retaliation | INA 101(a)(15)(T)(ii).
TN | USMCA Professional | INA 214(e)(1).
TD | Spouse or Child of TN | INA 214(e)(1).
U1 | Victim of Criminal Activity | INA 101(a)(15)(U)(i).
U2 | Spouse of U1 | INA 101(a)(15)(U)(ii).
U3 | Child of U1 | INA 101(a)(15)(U)(ii).
U4 | Parent of U1 Under 21 Years of Age | INA 101(a)(15)(U)(ii).
U5 | Unmarried Sibling Under Age 18 of U1 Under 21 Years of Age | INA 101(a)(15)(U)(ii).
V1 | Spouse of a Lawful Permanent Resident Awaiting Availability of Immigrant Visa | INA 101(a)(15)(V)(i) or INA 101(a)(15)(V)(ii).
V2 | Child of a Lawful Permanent Resident Awaiting Availability of Immigrant Visa | INA 101(a)(15)(V)(i) or INA 101(a)(15)(V)(ii).
V3 | Child of a V1 or V2 | INA 101(a)(15)(V)(i) or INA 101 (a)(15)(V)(ii) & INA 203(d).

3. Revise § 41.84 to read as follows:

§ 41.84 Victims of trafficking in persons.

(a) Eligibility. Under INA 101(a)(15)(T)(ii), an applicant accompanying, or following to join, may acquire derivative status as a parent, spouse, sibling or child (derivative family member) based on a relationship to an individual (the principal) who has applied for or who has been granted T-1 nonimmigrant status under INA 101(a)(15)(T)(i) or may acquire derivative status as an adult or minor child of the principal's derivative family member if the adult or minor child faces a present danger of retaliation as a result of the principal's escape from trafficking or cooperation with law enforcement. Such applicant will be eligible for a visa if:

(1) The consular officer is satisfied that the applicant has the required relationship to an individual who has been granted status by the Secretary for Homeland Security under INA 101(a)(15)(T)(i); or the consular officer is satisfied that the applicant has the required relationship with a derivative family member;

(2) The consular officer is satisfied that the applicant is otherwise admissible under the immigration laws of the United States; and

(3) The consular officer has received a DHS-approved I-914, Supplement A, evidencing that the applicant has been granted derivative status.

(b) Visa validity. A qualifying derivative family member may apply for a nonimmigrant visa under INA 101(a)(15)(T)(ii) only during the period in which the principal is in status under INA 101(a)(15)(T)(i). Any visa issued pursuant to such application shall be valid only for a period of three years or until the expiration of the principal's status as an individual classified under INA 101(a)(15)(T)(i), whichever is shorter.

PART 42—VISAS: DOCUMENTATION OF IMMIGRANTS UNDER THE IMMIGRATION AND NATIONALITY ACT, AS AMENDED

4. The authority citation for part 42 is amended to read:

Authority: 8 U.S.C. 1104 and 1182; Pub. L. 105-277, 112 Stat. 2681; Pub. L. 108-449, 118 Stat. 3469; The Convention on Protection of Children and Co-operation in Respect of Intercountry Adoption (done at the Hague, May 29, 1993), S. Treaty Doc. 105-51 (1998), 1870 U.N.T.S. 167 (Reg. No. 31922 (1993)); 42 U.S.C. 14901-14954 (Pub. L. 106-279, 114 Stat. 825); 8 U.S.C. 1101 (Pub L. 117-31, 135 Stat. 309); 8 U.S.C. 1154 (Pub. L. 109-162, 119 Stat. 2960); 8 U.S.C. 1201 (Pub. L. 114-70, 129 Stat. 561).

5. Revise 42.11 to read as follows:

§ 42.11 Classification symbols.

An immigrant visa issued to an applicant who applies to one of the classes described below shall bear an appropriate visa symbol to show its classification.

Table 1 to § 42.11
Symbol | Class | Section of law
Immediate Relatives
IR1 | Spouse of U.S. Citizen | INA 201(b).
IR2 | Child of U.S. Citizen | INA 201(b).
IR3 | Orphan Adopted Abroad by U.S. Citizen | INA 201(b) & INA 101(b)(1)(F).
IH3 | Child from Hague Convention Country Adopted Abroad by U.S. Citizen | INA 201(b) & INA 101(b)(1)(G).
IR4 | Orphan to be Adopted in U.S. by U.S. Citizen | INA 201(b) & INA 101(b)(1)(F).
IH4 | Child from Hague Convention Country to be Adopted in U.S. by U.S. Citizen | INA 201(b) & INA 101(b)(1)(G).
IR5 | Parent of U.S. Citizen at Least 21 Years of Age | INA 201(b).
CR1 | Spouse of U.S. Citizen (Conditional Status) | INA 201(b) & INA 216.
CR2 | Child of U.S. Citizen (Conditional Status) | INA 201(b) & INA 216.
IW1 | Certain Spouses of Deceased U.S. Citizens | INA 201(b).
IW2 | Child of IW1 | INA 201(b).
IBI | Self-petition Spouse of U.S. Citizen | INA 204(a)(1)(A)(iii).
IB2 | Self-petition Child of U.S. Citizen | INA 204(a)(1)(A)(iv).
IB3 | Child of IB1 | INA 204(a)(1)(A)(iii).
IB5 | Self-petition Parent of U.S. Citizen | INA 204(a)(1)(A)(vii).
VI5 | Parent of U.S. Citizen Who Acquired Permanent Resident Status under the Virgin Islands Nonimmigrant Alien Adjustment Act | INA 201(b) & Section 2 of the Virgin Islands Nonimmigrant Alien Adjustment Act (Pub. L. 97-271).
Vietnam Amerasian Immigrants
AM1 | Vietnam Amerasian Principal | Section 584(b)(1)(A) of the Foreign Operations, Export Financing, and Related Programs Appropriations Act, 1988 (as contained in section 101(e) of Pub. L. 100-102) as amended.
AM2 | Spouse or Child of AM1 | Section 584(b)(1)(A) and 584(b)(1)(B) of the Foreign Operations, Export Financing, and Related Programs Appropriations Act, 1988 (as contained in section 101(e) of Pub. L. 100-102) as amended.
AM3 | Natural Mother of AM1 (and Spouse or Child of Such Mother) or Person Who has Acted in Effect as the Mother, Father, or Next-of-Kin of AM1 (and Spouse or Child of Such Person) | Section 584(b)(1)(A) and 584(b)(1)(C) of the Foreign Operations, Export Financing, and Related Programs Appropriations Act, 1988 (as contained in section 101(e) of Pub. L. 100-102) as amended.
Special Immigrants
SB1 | Returning Resident | INA 101(a)(27)(A).
SC1 | Person Who Lost U.S. Citizenship by Marriage | INA 101(a)(27)(B) & INA 324(a).
SC2 | Person Who Lost U.S. Citizenship by Serving in Foreign Armed Forces | INA 101(a)(27)(B) & INA 327.
SI1 | Certain Persons Employed by the U.S. Government in Iraq or Afghanistan as Translators or Interpreters | Section 1059 of Public Law 109-163, as amended.
SI2 | Spouse of SI1 | Section 1059 of Public Law 109-163, as amended.
SI3 | Child of SI1 | Section 1059 of Public Law 109-163, as amended.
SM1 | Person Recruited Outside the United States Who Has Served or is Enlisted to Serve in the U.S. Armed Forces for 12 Years | INA 101(a)(27)(K).
SM2 | Spouse of SM1 | INA 101(a)(27)(K).
SM3 | Child of SM1 | INA 101(a)(27)(K).
SQ1 | Certain Iraqis or Afghans Employed by or on Behalf of the U.S. Government | Section 602(b), Division F, Title VI, Omnibus Appropriations Act of 2009, Public Law 111-8, as amended and Section 1244 of Public Law 110-181, as amended.
SQ2 | Spouse of SQ1 | Section 602(b), Division F, Title VI, Omnibus Appropriations Act of 2009, Public Law 111-8, as amended and Section 1244 of Public Law 110-181, as amended.
SQ3 | Child of SQ1 | Section 602(b), Division F, Title VI, Omnibus Appropriations Act of 2009, Public Law 111-8, as amended and Section 1244 of Public Law 110-181, as amended.
SU2 | Spouse of U1 | INA 245(m)(3) & INA 101(a)(15)(U)(ii).
SU3 | Child of U1 | INA 245(m)(3) & INA 101(a)(15)(U)(ii).
SU5 | Parent of U1 | INA 245(m)(3) & INA 101(a)(15)(U)(ii).
Family-Sponsored Preferences
Family 1st Preference
F11 | Unmarried Son or Daughter of U.S. Citizen | INA 203(a)(1).
F12 | Child of F11 | INA 203(b) & INA 203(a)(1).
B11 | Self-petition Unmarried Son or Daughter of U.S. Citizen | INA 204(a)(1)(A)(iv) & INA 203(a)(1).
B12 | Child of B11 | INA 203(d), INA 204(a)(1)(A)(iv), & INA 203(a)(i).
Family 2nd Preference (Subject to Per-Country Limitations)
F21 | Spouse of Lawful Permanent Resident | INA 203(a)(2)(A).
F22 | Child of Lawful Permanent Resident | INA 203(a)(2)(A).
F23 | Child of F21 or F22 | INA 203(d) & INA 203(a)(2)(A).
F24 | Unmarried Son or Daughter of Lawful Permanent Resident | INA 203(a)(2)(B).
F25 | Child of F24 | INA 203(d) & INA 203(a)(2)(B).
C21 | Spouse of Lawful Permanent Resident (Conditional) | INA 203(a)(2)(A) & INA 216.
C22 | Child of Lawful Permanent Resident (Conditional) | INA 203(a)(2)(A) & INA 216.
C23 | Child of C21 or C22 (Conditional) | INA 203(a)(2)(A), INA 203(d) & INA 216.
C24 | Unmarried Son or Daughter of Lawful Permanent Resident (Conditional) | INA 203(a)(2)(B) & INA 216.
C25 | Child of C24 (Conditional) | INA 203(a)(2)(B), INA 203(d), & INA 216.
B21 | Self-petition Spouse of Lawful Permanent Resident | INA 204(a)(1)(B)(ii).
B22 | Self-petition Child of Lawful Permanent Resident | INA 204(a)(1)(B)(iii).
B23 | Child of B21 or B22 | INA 203(d) & INA 204(a)(1)(B)(ii).
B24 | Self-petition Unmarried Son or Daughter of Lawful Permanent Resident | INA 204(a)(1)(B)(iii).
B25 | Child of B24 | INA 203(d) & INA 204(a)(1)(B)(iii).
Family 2nd Preference (Exempt from Per-Country Limitations)
FX1 | Spouse of Lawful Permanent Resident | INA 202(a)(4)(A) & INA 203(a)(2)(A).
FX2 | Child of Lawful Permanent Resident | INA 202(a)(4)(A) & INA 203(a)(2)(A).
FX3 | Child of FX1 or FX2 | INA 202(a)(4)(A), INA 203(a)(2)(A), & INA 203(d).
CX1 | Spouse of Lawful Permanent Resident (Conditional) | INA 202(a)(4)(A), INA 203(a)(2)(A), & INA 216.
CX2 | Child of Lawful Permanent Resident (Conditional) | INA 202(a)(4), INA 203(a)(2)(A), & INA 216.
CX3 | Child of CX1 or CX2 (Conditional) | INA 202(a)(4)(A), INA 203(a)(2)(A), INA 203(d), & INA 216.
BX1 | Self-petition Spouse of Lawful Permanent Resident | INA 204(a)(1)(B)(ii).
BX2 | Self-petition Child of Lawful Permanent Resident | INA 204(a)(1)(B)(iii).
BX3 | Child of BX1 or BX2 | INA 203(d) & INA 204(a)(1)(B)(ii).
Family 3rd Preference
F31 | Married Son or Daughter of U.S. Citizen | INA 203(a)(3).
F32 | Spouse of F31 | INA 203(d) & INA 203(a)(3).
F33 | Child of F31 | INA 203(d) & INA 203(a)(3).
C31 | Married Son or Daughter of U.S. Citizen (Conditional) | INA 203(a)(3) & INA 216.
C32 | Spouse of C31 (Conditional) | INA 203(d), INA 203(a)(3), & INA 216.
C33 | Child of C31 (Conditional) | INA 203(d), INA 203(a)(3), & INA 216.
B31 | Self-petition Married Son or Daughter of U.S. Citizen | INA 204(a)(1)(A)(iv) & INA 203(a)(3).
B32 | Spouse of B31 | INA 203(d), INA 204(a)(1)(A)(iv) & INA 203(a)(3).
B33 | Child of B31 | INA 203(d), INA 204(a)(1)(A)(iv), & INA 203(a)(3).
Family 4th Preference
F41 | Brother or Sister of U.S. Citizen at Least 21 Years of Age | INA 203(a)(4).
F42 | Spouse of F41 | INA 203(a)(4) & INA 203(d).
F43 | Child of F41 | INA 203(a)(4) & INA 203(d).
Employment-Based Preferences
Employment 1st Preference (Priority Workers)
E11 | Person with Extraordinary Ability | INA 203(b)(1)(A).
E12 | Outstanding Professor or Researcher | INA 203(b)(1)(B).
E13 | Multinational Executive or Manager | INA 203(b)(1)(C).
E14 | Spouse of E11, E12, or E13 | INA 203(d), INA 203(b)(1)(A), INA 203(b)(1)(B), & INA 203(b)(1)(C).
E15 | Child of E11, E12, or E13 | INA 203(d), INA 203(b)(1)(A), INA 203(b)(1)(B), & INA 203(b)(1)(C).
Employment 2nd Preference (Professionals Holding Advanced Degrees or Persons of Exceptional Ability)
E21 | Professional Holding Advanced Degree or Person of Exceptional Ability | INA 203(b)(2).
E22 | Spouse of E21 | INA 203(b)(2) & INA 203(d).
E23 | Child of E21 | INA 203(b)(2) & INA 203(d).
Employment 3rd Preference (Skilled Workers, Professionals, or Other Workers)
E31 | Skilled Worker | INA 203(b)(3)(A)(i).
E32 | Professional Holding Baccalaureate Degree | INA 203(b)(3)(A)(ii).
E34 | Spouse of E31 or E32 | INA 203(b)(3)(A)(i), INA 203(b)(3)(A)(ii), & INA 203(d).
E35 | Child of E31 or E32 | INA 203(b)(3)(A)(i), INA 203(B)(3)(A)(ii), & INA 203(d).
EW3 | Other Worker (Subgroup Numerical Limit) | INA 203(b)(3)(A)(iii).
EW4 | Spouse of EW3 | INA 203(b)(3)(A)(iii) & INA 203(d).
EW5 | Child of EW3 | INA 203(b)(3)(A)(iii) & INA 203(d).
Employment 4th Preference (Certain Special Immigrants)
BC1 | Broadcaster in the U.S. Employed by the International Broadcasting Bureau of the Broadcasting Board of Governors or a Grantee of Such Organization | INA 101(a)(27)(M) & INA 203(b)(4).
BC2 | Accompanying Spouse of BC1 | INA 101(a)(27)(M) & INA 203(b)(4).
BC3 | Accompanying Child of BC1 | INA 101(a)(27)(M) & INA 203(b)(4).
SD1 | Minister of Religion | INA 101(a)(27)(C)(ii)(I) & INA 203(b)(4).
SD2 | Spouse of SD1 | INA 101(a)(27)(C)(ii)(I) & INA 203(b)(4).
SD3 | Child of SD1 | INA 101(a)(27)(C)(ii)(I) & INA 203(b)(4).
SE1 | Certain Employee or Former Employee of the U.S. Government Abroad | INA 101(a)(27)(D) & INA 203(b)(4).
SE2 | Spouse of SE1 | INA 101(a)(27)(D) & INA 203(b)(4).
SE3 | Child of SE1 | INA 101(a)(27)(D) & INA 203(b)(4).
SF1 | Former Employee of the Panama Canal Company or Canal Zone Government | INA 101(a)(27)(E) & INA 203 (b)(4).
SF2 | Spouse or Child of SF1 | INA 101(a)(27)(E) & INA 203 (b)(4).
SG1 | Former Employee of the U.S. Government in the Panama Canal Zone (Panamanian National) | INA 101(a)(27)(F) & INA 203 (b)(4).
SG2 | Spouse or Child of SG1 | INA 101(a)(27)(F) & INA 203 (b)(4).
SH1 | Former Employee of the Panama Canal Company or Canal Zone Government (Five Years of Service) | INA 101(a)(27)(G) & INA 203(b)(4).
SH2 | Spouse or Child of SH1 | INA 101(a)(27)(G) & INA 203(b)(4).
SJ1 | Foreign Medical Graduate (Adjustment Only) | INA 101(a)(27)(H).
SJ2 | Spouse or Child of SJ1 | INA 101(a)(27)(H) & INA 203(b)(4).
SK1 | Retired International Organization Employee | INA 101(a)(27)(I)(iii) & INA 203(b)(4).
SK2 | Spouse of SK1 | INA 101(a)(27)(I)(iv) & INA 203(b)(4).
SK3 | Unmarried Son or Daughter of SK1 | INA 101(a)(27)(I)(i) & INA 203(b)(4).
SK4 | Surviving Spouse of a Deceased International Organization Employee | INA 101(a)(27)(I)(ii) & INA 203(b)(4).
SL1 | Juvenile Court Dependent (Adjustment Only) | INA 101(a)(27)(J) & INA 203(b)(4).
SN1 | Retired NATO6 Civilian Employee | INA 101(a)(27)(L) & INA 203(b)(4).
SN2 | Spouse of SN1 | INA 101(a)(27)(L) & INA 203(b)(4).
SN3 | Unmarried Son or Daughter of SN1 | INA 101(a)(27)(L) & INA 203(b)(4).
SN4 | Surviving Spouse of Deceased NATO6 Civilian Employee | INA 101(a)(27)(L) & INA 203(b)(4).
SP | Beneficiary of a Petition or Labor Certification Application Filed Prior to September 11, 2001, if the Petition or Application was Rendered Void Due to the Terrorist Acts of September 11, 2001, or the Spouse, Child of such Beneficiary, or the Grandparent of a Child Orphaned by a Terrorist Act of September 11, 2001 | Section 421 of Public Law 107-56.
SR1 | Religious Worker | INA 101(a)(27)(C)(ii)(II) & (III), as amended & INA 203(b)(4).
SR2 | Spouse of SR1 | INA 101(a)(27)(C)(ii)(II) & (III), as amended & INA 203(b)(4).
SR3 | Child of SR1 | INA 101(a)(27)(C)(ii)(II) & (III), as amended & INA 203(b)(4).
SS1 | Surviving Spouse or Child of an Employee of the United States Government Abroad | INA 101(a)(27)(D)(ii).
Employment 5th Preference (Employment Creation Conditional Status) (Petitions Filed Before March 15, 2022)
C51 | Employment Creation, Outside Targeted Area | INA 203(b)(5)(A).
C52 | Spouse of C51 | INA 203(b)(5)(A) & INA 203(d).
C53 | Child of C51 | INA 203(b)(5)(A) & INA 203(d).
T51 | Employment Creation in Targeted Rural/High Unemployment Area | INA 203(b)(5)(B).
T52 | Spouse of T51 | INA 203(b)(5)(B) & INA 203(d).
T53 | Child of T51 | INA 203(b)(5)(B) & INA 203(d).
R51 | Regional Center Program, Not in Targeted Area | INA 203(b)(5) & Sec. 610 of the Departments of Commerce, Justice, and State, the Judiciary and Related Agencies Appropriations Act, 1993 (Pub. L. 102-395), as amended.
R52 | Spouse of R51 | INA 203(b)(5), INA 203(d), & Sec. 610 of the Departments of Commerce, Justice, and State, the Judiciary and Related Agencies Appropriations Act, 1993 (Pub. L. 102-395), as amended.
R53 | Child of R51 | INA 203(b)(5), INA 203(d), & Sec. 610 of the Departments of Commerce, Justice, and State, the Judiciary and Related Agencies Appropriations Act, 1993 (Pub. L. 102-395), as amended.
I51 | Regional Center Program, Target Area | INA 203(b)(5) & Sec. 610 of the Departments of Commerce, Justice, and State, the Judiciary and Related Agencies Appropriations Act, 1993 (Pub. L. 102-395), as amended.
I52 | Spouse of I51 | INA 203(b)(5), INA 203(d), & Sec. 610 of the Departments of Commerce, Justice, and State, the Judiciary and Related Agencies Appropriations Act, 1993 (Pub. L. 102-395), as amended.
I53 | Child of I51 | INA 203(b)(5), INA 203(d), & Sec. 610 of the Departments of Commerce, Justice, and State, the Judiciary and Related Agencies Appropriations Act, 1993 (Pub. L. 102-395), as amended.
Employment 5th Preference (Employment Creation Conditional Status) (Petitions Filed On or After March 15, 2022)
NU1 | Investor in Non-Regional Center, Unreserved | INA 203(b)(5), Sec. 610 of the Departments of Commerce, Justice, and State, the Judiciary and Related Agencies Appropriations Act, 1993 (Pub. L. 102-395), as drafted, & Division BB of the Consolidated Appropriations Act, 2022 (Pub. L. 117-103).
NU2 | Spouse of NU1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
NU3 | Child of NU1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RU1 | Investor in Regional Center, Unreserved | INA 203(b)(5), Sec. 610 of the Departments of Commerce, Justice, and State, the Judiciary and Related Agencies Appropriations Act, 1993 (Pub. L. 102-395), as drafted, & Division BB of the Consolidated Appropriations Act, 2022 (Pub. L. 117-103).
RU2 | Spouse of RU1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RU3 | Child of RU1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
NR1 | Investor in Non-Regional Center, Set Aside—Rural | INA 203(b)(5), Sec. 610 of the Departments of Commerce, Justice, and State, the Judiciary and Related Agencies Appropriations Act, 1993 (Pub. L. 102-395), as drafted, & Division BB of the Consolidated Appropriations Act, 2022 (Pub. L. 117-103).
NR2 | Spouse of NR1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
NR3 | Child of NR1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
NH1 | Investor in Non-Regional Center, Set Aside—High Unemployment | INA 203(b)(5), Sec. 610 of the Departments of Commerce, Justice, and State, the Judiciary and Related Agencies Appropriations Act, 1993 (Pub. L. 102-395), as drafted, & Division BB of the Consolidated Appropriations Act, 2022 (Pub. L. 117-103).
NH2 | Spouse of NH1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
NH3 | Child of NH1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RR1 | Investor in Regional Center, Set Aside—Rural | INA 203(b)(5), Sec. 610 of the Departments of Commerce, Justice, and State, the Judiciary and Related Agencies Appropriations Act, 1993 (Pub. L. 102-395), as drafted, & Division BB of the Consolidated Appropriations Act, 2022 (Pub. L. 117-103).
RR2 | Spouse of RR1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RR3 | Child of RR1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RH1 | Investor in Regional Center, Set Aside—High Unemployment | INA 203(b)(5), Sec. 610 of the Departments of Commerce, Justice, and State, the Judiciary and Related Agencies Appropriations Act, 1993 (Pub. L. 102-395), as drafted, & Division BB of the Consolidated Appropriations Act, 2022 (Pub. L. 117-103).
RH2 | Spouse of RH1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RH3 | Child of RH1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RI1 | Investor in Regional Center, Set Aside—Infrastructure | INA 203(b)(5), Sec. 610 of the Departments of Commerce, Justice, and State, the Judiciary and Related Agencies Appropriations Act, 1993 (Pub. L. 102-395), as drafted, & Division BB of the Consolidated Appropriations Act, 2022 (Pub. L. 117-103).
RI2 | Spouse of RI1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
RI3 | Child of RI1 | INA 203(b)(5), INA 203(d), Sec. 610 of the Departments of Commerce, Justice, and State, the Judiciary and Related Agencies Appropriations Act, 1993 (Pub. L. 102-395), as drafted, & Division BB of the Consolidated Appropriations Act, 2022 (Pub. L. 117-103).
Other Categories
Diversity Immigrants
DV1 | Diversity Immigrant | INA 203(c).
DV2 | Spouse of DV1 | INA 203(c) & 203(d).
DV3 | Child of DV1 | INA 203(c) & 203(d).

Rena Bitter,
Assistant Secretary for Consular Affairs, Department of State.

[FR Doc. 2023-14538 Filed 7-13-23; 8:45 am]

BILLING CODE 4710-06-P